DEPARTMENT OF LABOR

Occupational Safety and Health Administration

[Docket No. OSHA-2012-0014]

Lead in Construction Standard; Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on February 28, 2025, soliciting public comments concerning the proposal to extend the Office of Management and Budget's (OMB) approval of the information collection requirements specified in the regulation on Lead in Construction Standard. The document contained incorrect OMB numbers. This notice corrects these errors.

FOR FURTHER INFORMATION CONTACT: Seleda Perryman, Directorate of Standards and Guidance, OSHA, U.S. Department of Labor; telephone: (202) 693-2222.

SUPPLEMENTARY INFORMATION:

Correction

In the Federal Register of February 28, 2025, in FR Doc. 2025-03201, on page 10953, in the first column, on the 21st line, correct “OMB Control Number: 1218-0014” to read “OMB Control Number: 1218-0189”.

Authority and Signature

Amanda Wood Laihow, Acting Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on April 9, 2025.
Amanda Wood Laihow,
Acting Assistant Secretary of Labor for Occupational Safety and Health.

[FR Doc. 2025-06720 Filed 4-23-25; 8:45 am]

BILLING CODE 4510-26-P